FEDERAL COMMUNICATIONS COMMISSION

Notice of Public Information Collection(s) Being Submitted to the Office of Management and Budget (OMB) for Emergency Review and Approval, Comments Requested

June 2, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before [July 9, 2010]. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Judith B. Herman, Office of Managing Director, (202) 418-0214. For additional information or copies of the information collection(s), contact Judith B. Herman, OMD, 202-418-0214 or email judith-b.herman@fcc.gov.

SUPPLEMENTARY INFORMATION: The Commission is requesting emergency OMB processing of this information collection under 5 CFR 1320.13. The Commission is requesting OMB approval by June 18, 2010.

OMB Control Number: 3060-XXXX.

Title: Requests for Waiver of Various Petitioners to Allow the Establishment of 700 MHz Interoperable Public Safety Wireless Broadband Networks.

Form Number: N/A.

Type of Review: New collection.

Respondents: State, local or tribal government.

Number of Respondents and Responses: 50 respondents, 50 responses.

Estimated Time per Response: 365 hours (average).

Frequency of Response: One time and quarterly reporting requirements.

Obligation to Respond: Required to obtain or retain benefits. Statutory authority for this information collection is contained in 47 U.S.C. sections 151, 154(i) 301, 303, 332 and 337.

Total Annual Burden: 18,250 hours.

Total Annual Cost: N/A.

Privacy Act Impact Assessment: N/A.

Nature and Extent of Confidentiality: There is no need for confidentiality.

Needs and Uses: The Commission is submitting this new information collection to the Office of Management and Budget (OMB) under their emergency processing provisions of 5 CFR 1320.13. The Commission is requesting OMB approval by June 18, 2010.

In the Order PS Docket No. 06-229, FCC 10-79, the Commission grants with conditions, 21 waiver petitions filed by public safety entities (“Petitioners”) seeking early deployment of statewide or local public safety networks in the 700 MHz spectrum. This waiver serves the public interest by allowing state and local jurisdictions to begin broadband deployment and speed services to the public safety community. This will also allow the Petitioners to take advantage of available or potential funding, either through grants or planned budgetary expenditures, as well as to take advantage of economies of scale and other cost saving measures for deployments that are already planned. In addition, Petitioners could benefit from the announced plans of some commercial carriers to begin construction of LTE-based networks this year and early next year, which could result in significant cost savings.

One of the conditions for such waiver is the submission of interoperability plans to the Commission's Emergency Response Interoperability Center (“ERIC”). The Commission recently decided to establish ERIC to promote appropriate technical requirements that will ensure interoperability for these early deployments from their inception, as well as for any future deployed networks. Given the rapidly evolving nature of 3GPP deployments and standards, submission of the Petitioners' interoperability plans will help ensure interoperability and roaming among these early deployments.

Another condition of waiver is certification by Petitioners that their vendors are participating actively in the PSCR/DC Demonstration Network which will provide an open platform for development and testing of public safety 700 MHz LTE broadband equipment. This is important to ensure that, early in the deployment stage, new broadband equipment is being developed to support the network meets public safety's use expectations, will work in a multivendor environment, and allows for roaming across multiple networks.

We also require each Petitioner to enter into a de facto spectrum lease with the Public Safety Spectrum Trust (“PSST”) in accordance with the terms and conditions of the Order. These leases must be submitted for approval by the Commission's Chief of the Public Safety and Homeland Security Bureau within 60 days of approval by OMB.

We also require each Petitioner, before deployment, to coordinate and address interference mitigation needs with any adjacent or bordering jurisdictions that also plan deployment, memorialize these agreements in writing, and submit them to ERIC within 30 days of their completion. Similarly, we require that parties provide ERIC with notice of any changes or updates within 30 days.

In light of the novel nature of these deployments and the ongoing standards and equipment development for LTE, we emphasize that diligent pursuit of deployment is expected. In this respect, we also require Petitioners to file, in consultation with the PSST, 30 days after approval by OMB and quarterly thereafter, status reports with the Public Safety and Homeland Security Bureau addressing the Petitioners' progress in three areas: 1) planning, 2) funding, and 3) deployment.

This information will be used by FCC staff to facilitate deployment of state and local public safety broadband networks as an initial step towards development of a nationwide, interoperable public safety broadband network Accurate recordkeeping of this data is vital in developing the regulatory framework for this network. Since such a network is vital for public safety and homeland security, its proper operation must be assured.

Federal Communications Commission.
Marlene H. Dortch,
Secretary,
Office of the Secretary,
Office of Managing Director.

[FR Doc. 2010-13838 Filed 6-8-10; 8:45 am]

BILLING CODE 6712-01-S